DEPARTMENT OF COMMERCE

International Trade Administration

[A-449-804]

Steel Concrete Reinforcing Bars from Latvia: Rescission of Antidumping Duty Administrative Review

AGENCY: Import Administration, International Trade Administration, Department of Commerce.

EFFECTIVE DATE: March 5, 2008

FOR FURTHER INFORMATION CONTACT: David Layton at (202) 482-0371; AD/CVD Operations, Office 1, Import Administration, International Trade Administration, U.S. Department of Commerce, 14th Street & Constitution Avenue, NW, Washington, DC 20230.

SUPPLEMENTARY INFORMATION:

Background

On September 4, 2007, the Department published in the Federal Register a notice of opportunity to request an administrative review of the antidumping duty order of steel concrete reinforcing bars (rebar) from Latvia for the period of review covering September 1, 2006, through August 31, 2007 (the POR). See Antidumping or Countervailing Duty Order, Finding, or Suspended Investigation; Opportunity to Request Administrative Review, 72 FR 50657 (September 4, 2007). On September 28, 2007, in accordance with 19 CFR 351.213(b)(1), the Rebar Trade Action Coalition and its individual members (RTAC)¹ requested an administrative review of Joint Stock Company Liepajas Metalurgs (LM).

¹ RTAC is the petitioner in this proceeding. Its individual members include Nucor Corporation, Gerdau Ameristeel Corporation, and Commercial Metals Company.

The Department published the notice of initiation of the administrative review of the antidumping duty order on rebar from Latvia on October 31, 2007. See Initiation of Antidumping and Countervailing Duty Administrative Reviews, 72 FR 61621 (October 31, 2007). On November 30, 2007, LM submitted a letter to the Department in which it certified that it made no sales or exports of subject merchandise to the United States during the POR.

On January 9, 2008, the Department issued a “No Shipment Inquiry” to U.S. Customs and Border Protection (CBP) to confirm that there were no shipments or entries of rebar from Latvia exported by LM during the POR of the instant administrative review. On January 24, 2008, the Department confirmed, based on a review of CBP data and the results of its CBP inquiry, that there were no entries of subject merchandise exported or shipped by LM during the POR. Based on our findings, we notified parties of our intent to rescind and gave them an opportunity to comment. See the Memorandum to The File from David Layton entitled, “Department Intent to Rescind Review,” dated January 24, 2008 (Intent to Rescind Memo). No party commented on our Intent to Rescind Memo. In accordance with 19 CFR 351.213(d)(3), the Department may rescind an administrative review, in whole or with respect to a particular exporter or producer, if the Department concludes that, during the period covered by the review, there were no entries, exports, or sales of the subject merchandise. Consequently, in accordance with 19 CFR 351.213(d)(3) and consistent with our practice, we are rescinding our review with respect to LM. See, e.g., Certain Steel Concrete Reinforcing Bars from Turkey; Final Results and Rescission of Antidumping Duty Administrative Review in Part, 71 FR 65082, 65083 (November 7, 2006).

Although the respondent does not have any sales or exports of subject merchandise to the United States during the POR, its subject merchandise may have entered the United States during the POR under its CBP antidumping case number by way of intermediaries (without its knowledge). Fifteen days after the publication of this notice, the Department will instruct CBP to liquidate such entries at the all-others rate in effect on the date of the entry. See Antidumping and Countervailing Duty Proceedings: Assessment of Antidumping Duties, 68 FR 23954 (May 6, 2003).

This notice serves as a reminder to parties subject to administrative protective orders of their responsibility concerning the return or destruction of proprietary information disclosed under the administrative protective order (APO) in accordance with 19 CFR 351.305(a)(3). Timely written notification of the return/destruction of APO materials or conversion to judicial protective order is hereby requested. Failure to comply with the regulations and terms of an APO is a sanctionable violation.

This notice is published in accordance with section 751(a)(1) of the Tariff Act of 1930, as amended, and 19 CFR 351.213(d)(4).

Dated: February 25, 2008.
Stephen J. Claeys,
Deputy Assistant Secretary for Import Administration.

[FR Doc. E8-4249 Filed 3-4-08; 8:45 am]

BILLING CODE 3510-DS-S